DEPARTMENT OF HEALTH AND HUMAN SERVICES

Centers for Disease Control and Prevention

National Center for Injury Prevention and Control Initial Review Group

In accordance with section 10(a)(2) of the Federal Advisory Committee Act (Pub. L. 92-463), the Centers for Disease Control and Prevention (CDC) announces the following meeting:

Name: National Center for Injury Prevention and Control (NCIPC) Initial Review Group (IRG).

Times and Dates: 6:30 p.m.-9:30 p.m., April 12, 2004. 8 a.m.-9:30 p.m., April 13, 2004. 8 a.m.-5 p.m., April 14, 2004.

Place: Four Seasons Hotel Atlanta, 75 Fourteenth Street, Atlanta, Georgia 30309.

Status: Open: 6:30 p.m.—7 p.m., April 12, 2004. Closed: 7 p.m.-9:30 p.m., April 12, 2004. Closed: 8 a.m.-3:30 p.m., April 13, 2004. Open: 6:30 p.m.-7 p.m., April 13, 2004. Closed: 7 p.m.-9:30 p.m., April 13, 2004. Closed: 8 a.m.-5 p.m., April 14, 2004 Purpose: This group is charged with providing advice and guidance to the Secretary of Health and Human Services and the Director, CDC, concerning the scientific and technical merit of grant and cooperative agreement applications received from academic institutions and other public and private profit and nonprofit organizations, including State and local government agencies, to conduct specific injury research that focuses on prevention and control and supports Injury Control Research Centers (ICRCs).

Matters To Be Discussed: Agenda items include an overview of the injury program, discussion of the review process and panelists' responsibilities, and the review of and vote on grant applications. Beginning at 7 p.m., April 12, through 3:30 p.m., April 13, the Group will review individual research grant applications submitted in response to 12 Program Announcements (PAs) related to the following individual research grant applications: #04044, Grants for Acute Care, Rehabilitation, and Disability Prevention Research; #04045, Grants for Violence-Related Injury Prevention Research: Youth Violence Suicidal Behavior, Child Maltreatment, Intimate Partner Violence, and Sexual Violence; #04046, Grants for New Investigator Training Awards for Unintentional Injury, Violence Related Injury, Biomechanics, and Acute Care, Disability, and Rehabilitation-Related Research; #04047, Grants for Traumatic Injury Biomechanics Research; #04048, Research Grants to Prevent Unintentional Injuries; #04049, Grants for Dissertation Awards for Doctoral Candidates for Violence-Related and Unintentional Injury Prevention Research in Minority Communities; #04053, Practices to Improve Training Skills of Home Visitors; #04054, Youth Violence Prevention Through Community-Level Change; #04055, Efficacy Trials of Parenting Programs for Fathers; #04056, Sociocultural and Community Risk and Protective Factors for Child Maltreatment and Youth Violence; #04060, Cooperative Agreement for Research on the Association Between Exposure to Media Violence and Youth Violence; and #04062, Studies to Determine the Prevalence of a History of Traumatic Brain Injury (TBI) in an Institutionalized Population. In addition, the IRG will vote on the results of site visits conducted in response to Program Announcement #04011 pertaining to Injury Control Research Center (ICRC) applications. This portion of the meeting will be closed to the public in accordance with provisions set forth in section 552b(c)(4) and (6),title 5 U.S.C., and the Determination of the Director, Management Analysis and Services Office, CDC, pursuant to Pub. L. 92-463.

Agenda items are subject to change as priorities dictate.

For Further Information Contact: Gwendolyn H. Cattledge, Ph.D., M.S.E.H., Executive Secretary, NCIPC IRG, CDC, 4770 Buford Highway, NE., M/S K02, Atlanta, Georgia 30341-3724, telephone (770) 488-4655.

Due to programmatic issues that had to be resolved, the Federal Register notice is being published less than fifteen days before the date of the meeting.

The Director, Management Analysis and Services office has been delegated the authority to sign Federal Register Notices pertaining to announcements of meetings and other committee management activities for both CDC and the Agency for Toxic Substances and Disease Registry.

Dated: March 24, 2004.
Joseph E. Salter,
Acting Director, Management Analysis and Services Office, Centers for Disease Control and Prevention.

[FR Doc. 04-7434 Filed 4-1-04; 8:45 am]

BILLING CODE 4163-18-P